DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on October 31, 2000 in North Bend, Oregon, at the Coos Bay Bureau of Land Management Office at 1300 Airport Lane. The meeting will begin at 9:00 a.m. and continue until 4:30 p.m. Agenda items to be covered include: (1) Province Implementation Monitoring 2000; (2) Public Comment; (3) Province Large Wood Implementation; (4) Rogue Basin Technical Team Update; (5) BLM Third-Year Monitoring Evaluation; and (6) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: October 16, 2000.
Don Ostby,
Designated Federal Official.

[FR Doc. 00-26975 Filed 10-19-00; 8:45 am]

BILLING CODE 3410-11-M